DEPARTMENT OF COMMERCE

National Oceanic and Atmospheric Administration

RIN 0648-XC348

Endangered Species; File No. 17364-01

AGENCY: National Marine Fisheries Service (NMFS), National Oceanic and Atmospheric Administration (NOAA), Commerce.

ACTION: Notice; receipt of application for permit modification.

SUMMARY: Notice is hereby given that the U.S. Fish and Wildlife Service (USFWS), Northeast Fishery Center, PO Box 75, Lamar, PA 16848 [Michael Millard: Responsible Party], has applied in due form for a permit modification [File No. 17364-01] to take captive Atlantic sturgeon (Acipenser oxyrinchus oxyrinchus) for purposes of conducting scientific research.

DATES: Written, telefaxed, or email comments must be received on or before September 12, 2014.

ADDRESSES: The application and related documents are available for review by selecting “Records Open for Public Comment” from the Features box on the Applications and Permits for Protected Species (APPS) home page, https://apps.nmfs.noaa.gov, and then selecting File No. 17364-01 from the list of available applications.

These documents are also available upon written request or by appointment in the following office:

Permits and Conservation Division, Office of Protected Resources, NMFS, 1315 East-West Highway, Room 13705, Silver Spring, MD 20910; phone (301) 427-8401; fax (301) 713-0376;

Written comments on the application should be submitted to the Chief, Permits and Conservation Division

• by email to NMFS.Pr1Comments@noaa.gov (include the File No. 17364-01 in the subject line of the email);

• by facsimile to (301) 713-0376; or

• at the address listed above.

Those individuals requesting a public hearing should submit a written request to the Chief, Permits and Conservation Division at the address listed above. The request should set forth the specific reasons why a hearing on the application(s) would be appropriate.

FOR FURTHER INFORMATION CONTACT: Malcolm Mohead at (301) 427-8401.

SUPPLEMENTARY INFORMATION: The subject permit modification is requested under the authority of the Endangered Species Act of 1973, as amended (ESA; 16 U.S.C. 1531 et seq.) and the regulations governing the taking, importing, and exporting of endangered and threatened species (50 CFR parts 222-226).

Permit No. 17364 was issued March 14, 2013 (78 FR 17640) with the Permit Holder's objectives stated as to refine propagation and culture techniques of captive Atlantic sturgeon held in refugia at the USFWS's Northeast Fisheries Center, providing a source of research animals for studies related to tagging, tracking, behavior, physiology, genetics, health, cryopreservation, and other methods for population conservation, recovery, or enhancement of the species in the wild.

The Permit Holder now proposes including five captive holding facilities of Atlantic sturgeon located in the state of Maryland, as well as co-investigators, to conduct similar scientific research on life stages of captive Atlantic sturgeon. Study objectives would include nutrition, physiology, propagation, contaminants, genetics, fish health, cryopreservation, tagging, and refugia. Additionally, studies would examine abiotic factors (e.g., pH, temperature, salinity dissolved oxygen, etc) influencing distribution and abundance in the wild. The modifications would be valid until expiration of the permit on March 13, 2018.

Dated: August 7, 2014.
Julia Harrison,
Chief, Permits and Conservation Division, Office of Protected Resources, National Marine Fisheries Service.

[FR Doc. 2014-19074 Filed 8-12-14; 8:45 am]

BILLING CODE 3510-22-P